ENVIRONMENTAL PROTECTION AGENCY

40 CFR Parts 50, 51, 52, 53, and 58

[EPA-HQ-OAR-2007-0492; FRL-9694-8]

Public Hearings for Proposed Rules—National Ambient Air Quality Standards for Particulate Matter

AGENCY: Environmental Protection Agency (EPA).

ACTION: Announcement of public hearings.

SUMMARY: The EPA is announcing two public hearings for the proposed rule titled, “National Ambient Air Quality Standards for Particulate Matter,” that is scheduled to be published in the Federal Register on June 29, 2012. The hearings will be held in Philadelphia, Pennsylvania, and Sacramento, California.

In this rulemaking, the EPA is proposing to make revisions to the primary and secondary national ambient air quality standards (NAAQS) for particulate matter (PM) to provide requisite protection of public health and welfare, respectively, and to make corresponding revisions to the data handling conventions for PM and ambient air monitoring, reporting, and network design requirements. The EPA is proposing changes to the Air Quality Index (AQI) to be consistent with the proposed primary standards. In addition, the EPA is proposing revisions to the prevention of significant deterioration (PSD) permitting program with respect to the proposed NAAQS revisions.

DATES: The public hearings will be held on July 17, 2012, in Philadelphia, Pennsylvania, and on July 19, 2012, in Sacramento, California. Please refer to SUPPLEMENTARY INFORMATION for additional information on the public hearings.

ADDRESSES: The hearings will be held at the following locations:

1. PHILADELPHIA: William J. Green Federal Building, 600 Arch Street, Philadelphia, PA 19106, 215-813-2583.

2. SACRAMENTO: California Air Resources Board, 1001 “I” Street, Sacramento, CA 95814, 916-322-2990.

Written comments on these proposed rules may also be submitted to EPA electronically, by mail, by facsimile, or through hand delivery/courier. Please refer to the proposal for the addresses and detailed instructions.

A complete set of documents related to the proposed rule is available for public inspection at the EPA Docket Center, located at 1301 Constitution Avenue NW., Room B102, Washington, DC between 8:30 a.m. and 4:30 p.m., Monday through Friday, excluding legal holidays. A reasonable fee may be charged for copying. Documents are also available through the electronic docket system at www.regulations.gov.

The EPA Web site for the rulemakings, which includes the proposal and information about the public hearings, can be found at: http://www.epa.gov/air/particlepollution/actions.html.

FOR FURTHER INFORMATION CONTACT: If you would like to speak at the public hearings or have questions concerning the public hearings, please contact Mr. Alan Rush at the address given below under SUPPLEMENTARY INFORMATION.

Questions concerning the “National Ambient Air Quality Standards for Particulate Matter” proposed rule should be addressed to Ms. Beth Hassett-Sipple, U.S. EPA, Office of Air Quality Planning and Standards, Health and Environmental Impacts Division, (C504-06), Research Triangle Park, NC 27711, telephone number (919) 541-4605, email hassett-sipple.beth@epa.gov.

SUPPLEMENTARY INFORMATION: The proposed rule for which EPA is holding the public hearings is scheduled to be published in the Federal Register on June 29, 2012, and is available on the following Web site: http://www.epa.gov/air/particlepollution/actions.html. The public hearings will provide interested parties the opportunity to present data, views, or arguments concerning the proposed rule. The EPA may ask clarifying questions during the oral presentations, but will not respond to the presentations at that time. Written statements and supporting information submitted during the comment period will be considered with the same weight as any oral comments and supporting information presented at the public hearings. Written comments must be postmarked by the last day of the comment period, August 31, 2012, as specified in the proposed rule.

The two public hearings will be held in Philadelphia, Pennsylvania, and Sacramento, California. The public hearings will begin each day at 9 a.m. (local time) and continue into the evening until 9 p.m. (local time). The EPA will make every effort to accommodate all speakers that arrive and register before 9 p.m. The EPA is scheduling lunch breaks from 12:30 until 2 p.m. and dinner breaks from 6 p.m. to 7:30 p.m. If you would like to present oral testimony at the hearings, please notify Mr. Alan Rush (6301A), U.S. Environmental Protection Agency, Office of Air Quality Planning and Standards, Ariel Rios Building, 1200 Pennsylvania Avenue NW., Washington, DC 20460; email rush.alan@epa.gov (preferred method for registering), (202) 564-1658. He will arrange a general time slot for you to speak. The EPA will make every effort to follow the schedule as closely as possible on the day of the hearings.

Oral testimony will be limited to five (5) minutes for each commenter to address either or both proposals. We will not be providing equipment for commenters to show overhead slides or make computerized slide presentations unless we receive special requests in advance. Commenters should notify Mr. Rush if they will need specific equipment. Commenters should also notify Mr. Rush if they need specific translation services for non-English speaking commenters. The EPA encourages commenters to provide written versions of their oral testimonies either electronically on computer disk or CD-ROM or in paper copy.

The hearing schedules, including lists of speakers, will be posted on EPA's Web pages for the proposals at: http://www.epa.gov/air/particlepollution/actions.html prior to the hearings. Verbatim transcripts of the hearings and written statements will be included in the rulemaking docket.

How can I get copies of this document and other related information?

The EPA has established the official public docket for the “National Ambient Air Quality Standards for Particulate Matter” under Docket Number EPA-HQ-OAR-2007-0492. The EPA has also developed a Web site for the proposed rule at the address given above. Please refer to the proposed rule, which is scheduled to be published in the Federal Register on June 29, 2012, for detailed information on accessing information related to this proposal.

Dated: June 22, 2012.
Mary E. Henigin,
Acting Director, Office of Air Quality Planning and Standards.

[FR Doc. 2012-16045 Filed 6-29-12; 8:45 am]

BILLING CODE 6560-50-P